DEPARTMENT OF THE INTERIOR

Bureau of Land Management

[CA-360-03-1610-JP-064B]

Notice of Intent To Designate Routes of Travel and Amend the Redding Resource Management Plan

AGENCY: Bureau of Land Management, Department of the Interior.

ACTION: Notice of intent to designate routes of travel and amend the Redding Resource Management Plan (RMP).

DATES: Scoping comments will be accepted in person, by mail and email until July 9, 2003. Comment periods and planning meetings will be publicized in Shasta and Trinity counties through local news media.

ADDRESSES: Comments should be sent to Charles M. Schultz, Field Manager, Bureau of Land Management, Redding Field Office, 355 Hemsted Dr., Redding, CA 96002.

FOR FURTHER INFORMATION CONTACT: Andy Isola, Outdoor Recreation Planner, at the above address, telephone number (530) 224-2126, or e-mail: aisola@ca.blm.gov.

SUMMARY: The Bureau of Land Management proposes to amend the Redding Resource Management Plan pursuant to the Code of Federal Regulations (CFR) at 43 CFR 1610.2(c). The proposed amendment would establish or revise designations of ways, routes, and trails for off-highway vehicles in accordance with 43 CFR part 8342. The proposals will include public lands in the Interlakes Special Recreation Management Area, a complex of routes west of French Gulch Road and east of County Line Road North, the Sacramento River Bend Area of Critical Environmental Concern (ACEC), and other areas that may be identified in the planning process.

SUPPLEMENTARY INFORMATION: Input from previous public meetings and written comments from previous public discussions will be used to define issues. Preliminary issues identified include: Off-highway vehicle recreation use; adequate vehicle access for other casual uses, and visitor safety. All vehicular travel on public lands in the planning area will be restricted to the designated routes.

Planning criteria will honor valid existing rights. The amendment will be consistent with officially approved resource related plans, policies and programs of other Federal agencies, State and local governments, and Indian Tribes, so long as the guidance and plans are consistent with the purposes, policies and programs of Federal laws and regulations applicable to public lands. The plan will comply with trail designation regulations (43 CFR part 8340). The planning process shall include an environmental assessment with a biological evaluation prepared in compliance with the National Environmental Policy Act of 1969 (NEPA), the President's Council of Environmental Quality (CEQ) regulations (40 CFR part 1500), and BLM planning regulations (40 CFR part 1600). The Bureau will rely largely on existing route inventory data, information obtained from coordination with other federal, state, and local agencies, and public comments.

Comments, including names and addresses of respondents, will be available for public review at the Redding Field Office during normal working hours (7:45 AM to 4:30 PM, except holidays), and may be published as part of the EA or other related documents. Individuals may request confidentiality. If you wish to withhold your name or address from public review or from disclosure under the Freedom of Information Act, you must state this promptly at the beginning of your comment. Such requests will be honored to the extent allowed by law. All submissions from organizations or businesses will be made available for public inspection in their entirety.

Dated: March 7, 2003.
Charles M. Schultz,
Field Manager.

[FR Doc. 03-14446 Filed 6-6-03; 8:45 am]

BILLING CODE 4310-40-P